DEPARTMENT OF COMMERCE

International Trade Administration

(C-533-825)

Polyethylene Terephthalate Film, Sheet, and Strip (PET Film) from India: Rescission of Countervailing Duty Administrative Review

AGENCY: Import Administration, International Trade Administration, Department of Commerce.

FOR FURTHER INFORMATION CONTACT: Elfi Blum, AD/CVD Operations, Office 6, Import Administration, International Trade Administration, U.S. Department of Commerce, 14th Street and Constitution Avenue, NW, Washington DC 20230; telephone: (202) 482-0197.

SUPPLEMENTARY INFORMATION:

Background

On August 25, 2009, the Department of Commerce (the Department) initiated an administrative review of the countervailing duty (CVD) order on PET Film from India covering one producer/exporter of subject merchandise, Jindal Poly Films Limited of India (Jindal), for the period January 1, 2008, through December 31, 2008. See Initiation of Antidumping and Countervailing Duty Administrative Reviews and Requests for Revocation in Part, 73 FR 50308 (August 26, 2008) (Initiation Notice). On October 26, 2009, Jindal filed a timely withdrawal from its request for a countervailing duty administrative review, in accordance with 19 CFR 351.213(d)(1). Jindal is the only respondent in this review. Petitioners¹ did not file a request for a review.

¹ Dupont Teijin Films, Mitsubishi Polyester Film of America, and Toray Plastics (America), Inc. (collectively, Petitioners).

Rescission of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. Jindal submitted its request within the 90 day limit set by the regulations. Since no other parties requested a review of Jindal, the Department is rescinding, the administrative review of the countervailing duty order on PET Film from India for the period January 1, 2008, through December 31, 2008, for Jindal.

Assessment Rates

The Department will instruct U.S. Customs and Border Protection (CBP) to assess countervailing duties on all appropriate entries. Jindal shall be assessed countervailing duty rates equal to the cash deposit of the estimated countervailing duties required at the time of entry, or withdrawal from warehouse, for consumption, in accordance with 19 CFR 351.212(c)(1)(i). The Department will issue appropriate assessment instructions directly to CBP within 15 days of publication of this notice.

Notification to Importers

This notice serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which may be subject to sanctions.

This notice is issued and published in accordance with section 777(i)(1) of the Tariff Act of 1930, as amended (the Act), and 19 CFR 351.213(d)(4).

Dated: November 10, 2009.
John M. Andersen,
Acting Deputy Assistant Secretary for Antidumping and Countervailing Duty Operations.

[FR Doc. E9-27679 Filed 11-17-09; 8:45 am]

BILLING CODE 3510-DS-S